DEPARTMENT OF COMMERCE

Foreign-Trade Zones Board

[S-222-2018]

Approval of Subzone Status, Puerto Rico Steel Products Corporation, Coto Laurel, Puerto Rico

On December 14, 2018, the Executive Secretary of the Foreign-Trade Zones (FTZ) Board docketed an application submitted by CODEZOL, C.D., grantee of FTZ 163, requesting subzone status subject to the existing activation limit of FTZ 163, on behalf of Puerto Rico Steel Products Corporation, in Coto Laurel, Puerto Rico.

The application was processed in accordance with the FTZ Act and Regulations, including notice in the Federal Register inviting public comment (83 FR 65142-65143, December 19, 2018). The FTZ staff examiner reviewed the application and determined that it meets the criteria for approval.

Pursuant to the authority delegated to the FTZ Board Executive Secretary (15 CFR Sec. 400.36(f)), the application to establish Subzone 163L was approved on March 13, 2019, subject to the FTZ Act and the Board's regulations, including Section 400.13, and further subject to FTZ 163's 936.984-acre activation limit.

Dated: March 13, 2019.
Andrew McGilvray,
Executive Secretary.

[FR Doc. 2019-05147 Filed 3-18-19; 8:45 am]

BILLING CODE 3510-DS-P